DEPARTMENT OF TRANSPORTATION

Federal Aviation Administration

Change Notice for RTCA Program Management Committee

AGENCY: Federal Aviation Administration (FAA), DOT.

ACTION: Notice of RTCA Program Management Committee meeting.

SUMMARY: The FAA is issuing this notice to advise the public of a meeting of the RTCA Program Management Committee.

DATES: The meeting will be held October 28, 2003, starting at 9 a.m.

ADDRESSES: The meeting will be held at RTCA, Inc., 1828 L Street, NW., Suite 805, Washington, DC 20036.

FOR FURTHER INFORMATION CONTACT: RTCA Secretariat, 1828 L Street, NW., Suite 850, Washington, DC 20036; telephone (202) 833-9339; fax (202) 833-9434; Web site http://www.rtca.org.

SUPPLEMENTARY INFORMATION: Pursuant to section 10(a)(2) of the Federal Advisory Committee (Pub. L. 92-463, 5 U.S.C., Appendix 2), notice is hereby given for a Program Management Committee meeting. The revised agenda will include:

• October 28:

• Opening Session (Welcome and Introductory Remarks, Review/Approve Summary of Previous Meeting)

• Publication Consideration/Approval:

• Final Draft, Revised DO-236A—Minimum Aviation System Performance Standards: Required Navigation Performance for Area Navigation, TRCA Paper No. 166-03/PMC-290, prepared by SC-181.

• Final Draft, Revised DO-283—Minimum Operational Performance Standards for Required Navigation Performance for Area Navigation, RTCA Paper No. 167-03/PMC-291, prepared by SC-181.

• Final Draft, Revised DO-271A—Minimum Operational Performance Standards for Aircraft VDL Mode 3 Transceiver Operating in the Frequency Range 117.975-137.000 MHz, RTCA Paper No. 181-03/PMC-293, prepared by SC-172.

• Final Draft, Next Generation Air/Ground Communication System (NEXCOM) Implementation Considerations: Factors to be Considered in Planning for Transition to VDL Mode 3 Integrated Voice and Data Communications in the National Airspace System, RTCA Paper No. 188-03/PMC-295, prepared by SC-198.

• Discussion:

• Special Committee 186, ADS-B

• Discuss Display Integration of ADS-B and TCAS

• Special Committee 193

• Update Terms of Reference

• Special Committee 196

• Review/Status of Training Guidance Document

• Special Committee Chairman's Reports

• Action Item Review:

• Review/Status—All open action items

• Closing Session (Other Business, Document Production, Date and Place of Next Meeting, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on October 1, 2003.
Robert Zoldos,
FAA System Engineer, RTCA Advisory Committee.

[FR Doc. 03-26232 Filed 10-16-03; 8:45 am]

BILLING CODE 4910-13-M